DEPARTMENT OF COMMERCE

Foreign-Trade Zones Board

[Order No. 1094]

Approval for Extension of Authority of Board Order 828; Foreign-Trade Zone 21 Hubner Manufacturing Corporation (Industrial Bellows/Molded Parts); Charleston, South Carolina

Pursuant to its authority under the Foreign-Trade Zones Act of June 18, 1934, as amended (19 U.S.C. 81a-81u), the Foreign-Trade Zones Board (the Board) adopts the following Order:

Whereas, Board Order 828 (61 FR 33094, 6-26-96) granted authority on behalf of Hubner Manufacturing Corporation (HMC) to manufacture of textile/rubber industrial bellows and plastic/rubber molded parts under FTZ procedures subject to the following restrictions: 1) privileged foreign status (19 CFR 146.41) shall be elected on all foreign merchandise admitted to the zone for the HMC operation; and, 2) initial approval for a period of three years from the date of activation of FTZ procedures at the HMC plant (expires 8-7-2000), subject to extension;

Whereas, the South Carolina State Ports Authority, grantee of FTZ 21, has requested authority, on behalf of HMC, to extend its manufacturing authority on a permanent basis by removing Restriction #2;

Whereas, notice inviting public comment was given in the Federal Register (64 FR 27959, 5-24-99);

Whereas, the Board adopts the findings and recommendations of the examiner's report, and finds that the requirements of the FTZ Act and the Board's regulations are satisfied, and that approval of the request would be in the public interest if approval were subject to the restriction listed below;

Now Therefore, the Board hereby approves the request subject to the FTZ Act and the Board's regulations, including § 400.28, and further to a restriction requiring that privileged foreign status (19 CFR 146.41) shall be elected on all foreign-origin merchandise admitted to FTZ 21 for the HMC activity. HMC will continue to destroy all foreign status scrap materials in the zone, per Board Order 828.

Signed at Washington, DC, this 8th day of May, 2000.
Troy H. Cribb,
Assistant Secretary of Commerce for Import Administration, Alternate Chairman, Foreign-Trade Zones Board.
Dennis Puccinelli,
Acting Executive Secretary.

[FR Doc. 00-12978 Filed 5-22-00; 8:45 am]

BILLING CODE 3510-DS-P